DEPARTMENT OF TRANSPORTATION

Federal Aviation Administration

RTCA Special Committee 193/EUROCAE Working Group 44: Terrain and Airport Databases

AGENCY: Federal Aviation Administration (FAA), DOT.

ACTION: Notice of RTCA Special Committee 193/EUROCAE Working Group 44 meeting.

SUMMARY: The FAA is issuing this notice to advise the public of a meeting of RTCA Special Committee 193/EUROCAE Working Group 44: Terrain and Airport Databases.

DATES: The meeting will be held March 29-April 2, 2004 from 9 a.m.-5 p.m.

ADDRESSES: The meeting will be held at Instituto Superior Tecnico (IST), Lisbon, Spain.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 193/EUROCAE Working Group 44 meeting. The agenda will include:

• March 29:

• Opening Plenary Session (Welcome and Introductory Remarks, Review/Approval of Meeting Agenda, Review Summary of Previous Meeting)

• Subgroup 4 (Data Exchange Format)

• Resolution of Action Items

• Presentations

• Resolve Final Review and Comments (FRAC) on draft document, Interchange Standards for Terrain, Obstacle, and Aerodrome Mapping Data

• Resolution of comments

• March 30:

• Subgroup 4 (Continue previous day activities)

• Final Review and Comments (FRAC)

• Continued Resolution of comments

• March 31:

• Subgroup 4 (Continue previous day activities)

• Final Review and Comments (FRAC)

• April 1:

• Subgroup 4 (Continue previous day activities)

• Final Review and Comments (FRAC)

• April 2:

• Closing Plenary Session (Summary of Subgroup 4, Assign Tasks, Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 2, 2004.
Robert Zoldos,
FAA System Engineer, RTCA Advisory Committee.

[FR Doc. 04-5557 Filed 3-10-04; 8:45 am]

BILLING CODE 4910-13-M